DEPARTMENT OF VETERANS AFFAIRS

Copayment for Medication

AGENCY: Department of Veterans Affairs.

ACTION: Notice.

SUMMARY: The Department of Veterans Affairs (VA) is hereby giving notice that there is no change in the medication copayment rate for calendar year 2009 and the rate will remain at $8.00. The total amount of copayments in a calendar year for a veteran enrolled in one of the priority groups 2 through 6 shall not exceed the cap of $960.00. These rates are based on the Prescription Drug component of the Medical Consumer Price Index as cited in title 38, Code of Federal Regulations, part 17, section 17.110.

FOR FURTHER INFORMATION CONTACT: Tony Guagliardo, Director, Business Policy (163), Veterans Health Administration, 810 Vermont Avenue, NW., Washington, DC 20420, (202) 461-1591. (This is not a toll-free number.)

SUPPLEMENTARY INFORMATION: VA is required by law to charge certain veterans a copayment for each 30-day or less supply of medication provided on an outpatient basis (other than medication administered during treatment) for treatment of a non-service connected condition. Public Law 106-117, The Veterans' Millennium Health Care and Benefits Act, gives the Secretary of Veterans Affairs authority to increase the medication copayment amount and to establish a calendar year cap on the amount of medication copayments charged to veterans enrolled in priority groups 2 through 6. When veterans reach the calendar year cap, they will continue to receive medications without additional copayments for that calendar year.

Formula for Calculating the Medication Copayment Amount:

Each calendar year beginning after December 31, 2002, the Prescription Drug component of the Medical Consumer Price Index of the previous September 30 is divided by the Index as of September 30, 2001. The ratio is then multiplied by the original copayment amount of $7.00. The copayment amount of the new calendar year is then rounded down to the whole dollar amount.

Computation of Calendar Year 2009 Medication Copayment Amount Includes:

a. Prescription Drug Medical Consumer Price Index as of September 30, 2008 = 377.1.

b. Prescription Drug Medical Consumer Price Index as of September 30, 2001 = 304.8.

c. Index = 377.1 divided by 304.8 = 1.2371.

d. (INDEX) × $7 = $8.66.

e. Copayment amount = $8.00.

Dated: December 4, 2008.
Gordon Mansfield,
Deputy Secretary of Veterans Affairs.

[FR Doc. E8-29327 Filed 12-10-08; 8:45 am]

BILLING CODE 8320-01-P